COMMODITY FUTURES TRADING COMMISSION

Privacy Act of 1974; System of Records

AGENCY: Commodity Futures Trading Commission.

ACTION: Notice of a new system of records.

SUMMARY: The Commodity Futures Trading Commission (CFTC or Commission) is establishing a new system of records under the Privacy Act of 1974: CFTC-52, Training Records. New CFTC-52 addresses information collected from individuals who participate in or assist with CFTC training.

DATES: Comments must be received on or before June 20, 2018. This action will be effective without further notice on June 20, 2018, unless revised pursuant to comments received.

ADDRESSES: You may submit comments to this notice by any of the following methods:

• Agency website, via its Comments Online process: https://comments.cftc.gov. Follow the instructions for submitting comments through the website.

• Federal eRulemaking Portal: Comments may be submitted at http://www.regulations.gov. Follow the instructions for submitting comments.

• Mail: Christopher Kirkpatrick, Secretary of the Commission, Commodity Futures Trading Commission, Three Lafayette Centre, 1155 21st Street NW, Washington, DC 20581.

• Hand Delivery/Courier: Same as Mail, above.

Please submit your comments using only one method.

All comments must be submitted in English, or if not, accompanied by an English translation. Comments will be posted as received to http://www.cftc.gov. You should submit only information that you wish to make available publicly. If you wish the Commission to consider information that you believe is exempt from disclosure under the Freedom of Information Act (FOIA), a petition for confidential treatment of the exempt information may be submitted according to the procedures established in § 145.9 of the Commission's regulations, 17 CFR 145.9.

The Commission reserves the right, but shall have no obligation, to review, pre-screen, filter, redact, refuse, or remove any or all of a submission from http://www.cftc.gov that it may deem to be inappropriate for publication, such as obscene language. All submissions that have been redacted or removed that contain comments on the merits of the notice will be retained in the comment file, will be considered as required under all applicable laws, and may be accessible under the FOIA.

FOR FURTHER INFORMATION CONTACT: Chief Privacy Officer, privacy@cftc.gov, Office of the Executive Director, Commodity Futures Trading Commission, Three Lafayette Centre, 1155 21st Street NW, Washington, DC 20581.

SUPPLEMENTARY INFORMATION:

I. Training Records

The Training Records system contains information about individuals who participate in or assist with CFTC training. Collection of this information is necessary to facilitate, track, and report on administrative and mission-related training provided by CFTC.

II. The Privacy Act

Under the Privacy Act of 1974, 5 U.S.C. 552a, a “system of records” is defined as any group of records under the control of a federal government agency from which information about individuals is retrieved by name or other personal identifier. The Privacy Act establishes the means by which government agencies must collect, maintain, and use personally identifiable information associated with an individual in a government system of records.

Each government agency is required to publish a notice in the Federal Register of a system of records in which the agency identifies and describes each system of records it maintains, the reasons why the agency uses the personally identifying information therein, the routine uses for which the agency will disclose such information outside the agency, and how individuals may exercise their rights under the Privacy Act to determine if the system contains information about them.

SYSTEM NAME AND NUMBER

Training Records; CFTC-52.

SECURITY CLASSIFICATION:

Unclassified.

SYSTEM LOCATION:

Records for this system are stored in a vendor Government Cloud based Learning Management Solution, 1601 Cloverfield Blvd., Suite 600S, Santa Monica, CA 90404 and the Commodity Futures Trading Commission, Three Lafayette Centre, 1155 21st Street NW, Washington, DC 20581.

SYSTEM MANAGER(S):

Office of Executive Director (OED), Commodity Futures Trading Commission, Three Lafayette Centre, 1155 21st Street NW, Washington, DC 20581.

AUTHORITY FOR MAINTENANCE OF THE SYSTEM:

The collection of this information is authorized by or under 5 U.S.C. 4103; 5 CFR part 410; 5 CFR part 412; Public Law 107-347, E-Government Act of 2002; Executive Order 11348—Providing for the further training of Government employees; Executive Order 13111—Using Technology to Improve Training Technologies for Federal Government Employees.

PURPOSE(S) OF THE SYSTEM:

This records system will collect and document CFTC training given to CFTC employees, contractors, and others who are provided CFTC training. This system will provide CFTC with a means to track training registrations, scheduling, scores, completions, and other training metrics to assess the effectiveness of training, identify patterns, respond to requests for information related to the training of CFTC personnel and other individuals, and facilitate the compilation of statistical information about training.

CATEGORIES OF INDIVIDUALS COVERED BY THE SYSTEM:

Current and former employees of the CFTC, contractors, consultants, interns, any individual who participated in or assisted with a training program including instructors, course developers, observers, and interpreters.

CATEGORIES OF RECORDS IN THE SYSTEM:

The system of records includes information that may contain: Staff member name (First, Middle Initial, and Last Name), CFTC generated employee number, CFTC email address, division, office and/or branch, geographic location, position/title, job series, employment type (Federal employee, contractor, consultant, intern, or volunteer), participation/transaction data, including training sessions begun or completed by staff member, percentage of completion, assessments scores from any quizzes in training sessions, and length of time required to complete training sessions.

RECORD SOURCE CATEGORIES:

Information in this system originates from CFTC or is obtained directly from the individual who is the subject of these records.

ROUTINE USES OF RECORDS MAINTAINED IN THE SYSTEM, INCLUDING CATEGORIES OF USERS AND THE PURPOSES OF SUCH USES:

These records and information in these records may be used:

(a) To disclose information to contractors, grantees, volunteers, experts, students, and others performing or working on a contract, service, grant, cooperative agreement, or job for the Federal government when necessary to accomplish an agency function;

(b) To disclose information to Congress upon its request, acting within the scope of its jurisdiction, pursuant to the Commodity Exchange Act, 7 U.S.C. 1 et seq., and the rules and regulations promulgated thereunder;

(c) To disclose information to Federal, State, local, territorial, Tribal, or foreign agencies for use in meeting their statutory or regulatory requirements;

(d) To disclose to a Federal agency in response to its request in connection with the hiring or retention of an employee, the issuance of a security clearance, the reporting of an investigation of an employee, the letting of a contract, the issuance of a license, or a grant or other benefit by the requesting agency, to the extent that the information may be relevant to the requesting agency's decision on the matter;

(e) To disclose to a prospective employer in response to its request in connection with the hiring or retention of an employee, to the extent that the information is believed to be relevant to the prospective employer's decision in the matter;

(f) To disclose to appropriate agencies, entities, and persons when (1) the Commission suspects or has confirmed that there has been a breach of the system of records; (2) the Commission has determined that as a result of the suspected or confirmed breach there is a risk of harm to individuals, the Commission (including its information systems, programs, and operations), the Federal Government, or national security; and (3) the disclosure made to such agencies, entities, and persons is reasonably necessary to assist in connection with the Commission's efforts to respond to the suspected or confirmed breach or to prevent, minimize, or remedy such harm; or

(g) To disclose to another Federal agency or Federal entity, when the Commission determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

POLICIES AND PRACTICES FOR STORAGE OF RECORDS:

The Training Records system of records stores records in this system electronically or on paper in secure facilities. Electronic records are stored on the Learning Management System's secure servers or on the Commission's secure network and other electronic media as needed, such as encrypted hard drives and back-up media. Paper records are stored in secured facilities.

POLICIES AND PRACTICES FOR RETRIEVAL OF RECORDS:

Certain information covered by this system of records may be retrieved by employee name, or employee id number.

POLICIES AND PRACTICES FOR RETENTION AND DISPOSAL OF RECORDS:

Records for this system will be maintained in accordance with all applicable records schedules approved by the National Archives and Records Administration (NARA) including GRS 2.6, items 010, 020, 030 and GRS 2.7, item 030. All approved records schedules can be found at http://www.cftc.gov, or http://www.archives.gov/records-mgmt/grs.html.

ADMINISTRATIVE, TECHNICAL, AND PHYSICAL SAFEGUARDS:

Records are protected from unauthorized access and improper use through administrative, technical, and physical security measures. Administrative safeguards include agency-wide Rules of Behavior, agency-wide procedures for safeguarding personally identifiable information, and required annual privacy and security training. Technical security measures within CFTC include restrictions on computer access to authorized individuals who have a legitimate need-to-know the information; required use of strong passwords that are frequently changed; multi-factor authentication for remote access and access to many CFTC network components; use of encryption for certain data types and transfers; firewalls and intrusion detection applications; and regular review of security procedures and best practices to enhance security. Physical safeguards include restrictions on building access to authorized individuals, 24-hour security guard service, and maintenance of records in lockable offices and filing cabinets.

RECORDS ACCESS PROCEDURES:

Individuals seeking to determine whether this system of records contains information about themselves or seeking access to records about themselves in this system of records should address written inquiries to the Office of General Counsel, Commodity Futures Trading Commission, Three Lafayette Centre, 1155 21st Street NW, Washington, DC 20581. See 17 CFR 146.3 for full details on what to include in Privacy Act access request.

CONTESTING RECORDS PROCEDURES:

Individuals contesting the content of records about themselves contained in this system of records should address written inquiries to the Office of General Counsel, Commodity Futures Trading Commission, Three Lafayette Centre, 1155 21st Street NW, Washington, DC 20581. See 17 CFR 146.8 for full details on what to include in a Privacy Act amendment request.

NOTIFICATION PROCEDURES:

Individuals seeking notification of any records about themselves contained in this system of records should address written inquiries to the Office of General Counsel, Commodity Futures Trading Commission, Three Lafayette Centre, 1155 21st Street NW, Washington, DC 20581. See 17 CFR 146.3 for full details on what to include in a Privacy Act notification request.

EXEMPTIONS PROMULGATED FOR THE SYSTEM:

None.

HISTORY:

None.

Issued in Washington, DC, on May 16, 2018, by the Commission.
Robert Sidman,
Deputy Secretary of the Commission.

[FR Doc. 2018-10773 Filed 5-18-18; 8:45 am]

BILLING CODE 6351-01-P